DEPARTMENT OF TRANSPORTATION

Federal Aviation Administration

14 CFR Part 39

[Docket No. FAA-2014-0487; Directorate Identifier 2014-NM-026-AD]

RIN 2120-AA64

Airworthiness Directives; The Boeing Company Airplanes

AGENCY: Federal Aviation Administration (FAA), DOT.

ACTION: Notice of proposed rulemaking (NPRM).

SUMMARY: We propose to supersede Airworthiness Directive (AD) 2012-19-11, which applies to certain The Boeing Company Model 737 airplanes. AD 2012-19-11 currently requires incorporating design changes to improve the reliability of the cabin altitude warning system by installing a redundant cabin altitude pressure switch, replacing the aural warning module (AWM) with a new or reworked AWM, and changing certain wire bundles or connecting certain previously capped and stowed wires as necessary. For certain airplanes, AD 2012-19-11 also requires prior or concurrent incorporation of related design changes by modifying the instrument panels, installing light assemblies, modifying the wire bundles, and installing a new circuit breaker, as necessary. Since we issued AD 2012-19-11, we have determined that certain airplanes were not included in the requirement to incorporate related design changes. This proposed AD would add, for certain airplanes, a requirement to incorporate related design changes. This proposed AD also, for certain airplanes, no longer gives credit for accomplishing certain previous actions. We are proposing this AD to prevent the loss of cabin altitude warning, which could delay flightcrew recognition of a lack of cabin pressurization, and could result in incapacitation of the flightcrew due to hypoxia (a lack of oxygen in the body), and consequent loss of control of the airplane.

DATES: We must receive comments on this proposed AD by September 12, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0487; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Francis Smith, Aerospace Engineer, Cabin Safety and Environmental Systems Branch, ANM-150S, FAA, Seattle Aircraft Certification Office, 1601 Lind Avenue SW., Renton, WA 98057-3356; phone: 425-917-6596; fax: 425-917-6590; email: Francis.Smith@faa.gov.

SUPPLEMENTARY INFORMATION:

Comments Invited

We invite you to send any written relevant data, views, or arguments about this proposed AD. Send your comments to an address listed under the ADDRESSES section. Include “Docket No. FAA-2014-0487; Directorate Identifier 2014-NM-026-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 19, 2012, we issued AD 2012-19-11, Amendment 39-17206 (77 FR 60296, October 3, 2012), for certain The Boeing Company Model 737 airplanes. AD 2012-19-11 requires incorporating design changes to improve the reliability of the cabin altitude warning system by installing a redundant cabin altitude pressure switch, replacing the AWM with a new or reworked AWM, and changing certain wire bundles or connecting certain previously capped and stowed wires as necessary. For certain airplanes, AD 2012-19-11 also requires prior or concurrent incorporation of related design changes by modifying the instrument panels, installing light assemblies, modifying the wire bundles, and installing a new circuit breaker, as necessary. AD 2012-19-11 resulted from a report of a flightcrew not receiving an aural warning during a lack of cabin pressurization event. We issued AD 2012-19-11 to prevent the loss of cabin altitude warning, which could delay flightcrew recognition of a lack of cabin pressurization, and could result in incapacitation of the flightcrew due to hypoxia (a lack of oxygen in the body), and consequent loss of control of the airplane.

Other Related Rulemaking

The concurrent actions for AD 2012-19-11, Amendment 39-17206 (77 FR 60296, October 3, 2012), are the primary corrective actions for AD 2011-03-14, Amendment 39-16598 (76 FR 6529, February 7, 2011), and AD 2013-02-05, Amendment 39-17326 (78 FR 6202, January 30, 2013). AD 2011-03-14 and AD 2013-02-05 provide the necessary wiring configuration to perform the corrective actions for AD 2012-19-11. AD 2011-03-14 (for certain Model 737-100, -200, -200C, -300, -400, and -500 series airplanes) and AD 2013-02-05 (for certain Model 737-600, -700, -700C, -800, -900, and -900ER series airplanes) were issued to prevent failure of the flightcrew to recognize and react to a valid cabin altitude warning horn, which could result in incapacitation of the flightcrew due to hypoxia (a lack of oxygen in the body), and consequent loss of control of the airplane.

Actions Since AD 2012-19-11, Amendment 39-17206 (77 FR 60296, October 3, 2012), Was Issued

Since we issued AD 2012-19-11, Amendment 39-17206 (77 FR 60296, October 3, 2012), we have reviewed new service information for the actions required by paragraph (g) of AD 2012-19-11, which refers to Boeing Special Attention Service Bulletin 737-21-1164, Revision 1, dated May 17, 2012, as one of the appropriate sources of service information. Boeing Special Attention Service Bulletin 737-21-1164, Revision 2, dated August 23, 2013, provides essentially the same procedure for accomplishing the actions, except for certain airplanes, Boeing Special Attention Service Bulletin 737-21-1164, Revision 2, dated August 23, 2013, specifies to contact the manufacturer for the installation and replacement of certain wire bundles.

We also have reviewed new service information for the concurrent actions required by paragraph (h) of AD 2012-19-11, Amendment 39-17206 (77 FR 60296, October 3, 2012), which refers to Boeing Alert Service Bulletin 737-31A1325, dated January 11, 2010; and Boeing Alert Service Bulletin 737-31A1332, Revision 3, dated March 28, 2012; as the appropriate sources of service information. Boeing Alert Service Bulletin 737-31A1325, Revision 1, dated July 5, 2012; and Boeing Alert Service Bulletin 737-31A1332, Revision 4, dated October 31, 2013; provide essentially the same procedures for accomplishing the concurrent actions, except, for certain airplanes, Boeing Alert Service Bulletin 737-31A1325, Revision 1, dated July 5, 2012, specifies to contact the manufacturer for modification, installation, and repair instructions. Boeing Alert Service Bulletin 737-31A1332, Revision 4, dated October 31, 2013, also specified that airplanes having line numbers YA091 through YA097 were inadvertently removed from Boeing Alert Service Bulletin 737-31A1332, Revision 3, dated March 28, 2012, and are now included in Group 1 airplanes as identified in Boeing Alert Service Bulletin 737-31A1332, Revision 4, dated October 31, 2013.

In addition, we are also correcting a typographical error in paragraph (i)(1) of AD 2012-19-11, Amendment 39-17206 (77 FR 60296, October 3, 2012), which refers to paragraph (h) of that AD; paragraph (i)(1) of AD 2012-19-11 should refer to paragraph (g) of that AD. Operators that accomplished Boeing Special Attention Service Bulletin 737-21-1165, Revision 1, dated July 16, 2010, get credit for the actions in paragraph (g) of this AD; operators cannot get credit for the concurrent actions required by paragraph (h) of this AD because they cannot accomplish the concurrent actions using Boeing Special Attention Service Bulletin 737-21-1165, Revision 1, dated July 16, 2010.

We have revised paragraphs (i)(2) through (i)(4) of AD 2012-19-11, Amendment 39-17206 (77 FR 60296, October 3, 2012), to specify certain airplane variable numbers to clearly identify the airplanes that are allowed to receive credit for previous actions using certain service information and to match the information specified in AD 2013-02-05, Amendment 39-17326 (78 FR 6202, January 30, 2013). The airplanes identified in paragraphs (j)(2) through (j)(4) of this proposed AD match the airplanes specified in paragraphs (i)(1) through (i)(3) of AD 2013-02-05; these paragraphs give credit for doing actions specified in Boeing Alert Service Bulletin 737-31A1332, Revision 1, dated June 24, 2010; and Boeing Alert Service Bulletin 737-31Al332, Revision 2, dated August 18, 2011.

However, airplanes having variable numbers YA001 through YA008, YA251, YA501 through YA508, and YC321 through YC325, were allowed to take credit for actions as specified in paragraph (i)(2) and (i)(3) of AD 2012-19-11, Amendment 39-17206 (77 FR 60296, October 3, 2012). Airplanes having variable numbers YA001 through YA008, YA251, YA501 through YA508, and YC321 through YC325 are now excluded from the credit for doing certain actions given in paragraphs (j)(2) and (j)(3) of this proposed AD; therefore, we have provided a new compliance time for those airplanes in paragraph (i) of this AD.

Relevant Service Information

We reviewed the following service information:

• Boeing Special Attention Service Bulletin 737-21-1164, Revision 2, dated August 23, 2013.

• Boeing Alert Service Bulletin 737-31A1325, Revision 1, dated July 5, 2012.

• Boeing Alert Service Bulletin 737-31A1332, Revision 4, dated October 31, 2013.

For information on the procedures and compliance times, see this service information at http://www.regulations.gov by searching for and locating Docket No. FAA-2014-0487.

FAA's Determination

We are proposing this AD because we evaluated all the relevant information and determined the unsafe condition described previously is likely to exist or develop in other products of the same type design.

Proposed AD Requirements

This proposed AD would retain all requirements of AD 2012-19-11, Amendment 39-17206 (77 FR 60296, October 3, 2012). This proposed AD would add, for certain airplanes, a requirement to incorporate related design changes. This proposed AD also, for certain airplanes, no longer gives credit for accomplishing certain previous actions.

Differences Between This Proposed AD and the Service Information

Boeing Special Attention Service Bulletin 737-21-1164, Revision 2, dated August 23, 2013; and Boeing Alert Service Bulletin 737-31A1325, Revision 1, dated July 5, 2012; specify to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD affects 1,618 airplanes of U.S. registry.

We estimate the following costs to comply with this proposed AD:

Estimated Costs
Action | Labor cost | Parts cost | Cost per product | Cost on U.S. operators
Install a redundant cabin altitude pressure switch, replace the AWM with a new or reworked AWM, change certain wire bundles or connect certain capped and stowed wires [retained actions from AD 2012-19-11, Amendment 39-17206 (77 FR 60296, October 3, 2012), for 1,618 airplanes] | Up to 62 work-hours × $85 per hour = up to $5,270 | $33,576 | Up to $38,846 | Up to $62,852,828.
Modify the instrument panels, install light assemblies, modify the wire bundles, and install a new circuit breaker (concurrent requirements) [retained actions from AD 2012-19-11, Amendment 39-17206 (77 FR 60296, October 3, 2012), for 1,596 airplanes] | Up to 92 work-hours × $85 per hour = up to $7,820 | 5,292 | Up to $13,112 | Up to $20,926,752.
Modify the instrument panels, install light assemblies, modify the wire bundles, and install a new circuit breaker (concurrent requirements) [new actions for 22 airplanes] | Up to 92 work-hours × $85 per hour = up to $7,820 | 5,292 | Up to $13,112 | Up to $288,464.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-19-11, Amendment 39-17206 (77 FR 60296, October 3, 2012), and adding the following new AD:

The Boeing Company: Docket No. FAA-2014-0487; Directorate Identifier 2014-NM-026-AD.

(a) Comments Due Date

The FAA must receive comments on this AD action by September 12, 2014.

(b) Affected ADs

This AD replaces AD 2012-19-11, Amendment 39-17206 (77 FR 60296, October 3, 2012).

(c) Applicability

This AD applies to The Boeing Company airplanes, certificated in any category, as identified in paragraphs (c)(1) and (c)(2) of this AD.

(1) Model 737-100, -200, -200C, -300, -400, and -500 series airplanes, as identified in Boeing Special Attention Service Bulletin 737-21-1164, Revision 2, dated August 23, 2013.

(2) Model 737-600, -700, -700C, -800, -900, and -900ER series airplanes, as identified in Boeing Special Attention Service Bulletin 737-21-1165, Revision 1, dated July 16, 2010, as revised by Boeing Special Attention Service Bulletin 737-21-1165, Revision 2, dated April 30, 2012.

(d) Subject

Air Transport Association (ATA) of America Code 21, Air Conditioning.

(e) Unsafe Condition

This AD was prompted by the report of a flightcrew not receiving an aural warning during a lack of cabin pressurization event. We are issuing this AD to prevent the loss of cabin altitude warning, which could delay flightcrew recognition of a lack of cabin pressurization, and could result in incapacitation of the flightcrew due to hypoxia (a lack of oxygen in the body), and consequent loss of control of the airplane.

(f) Compliance

Comply with this AD within the compliance times specified, unless already done.

(g) Retained Installation

This paragraph restates the actions required by paragraph (g) of AD 2012-19-11, Amendment 39-17206 (77 FR 60296, October 3, 2012), with revised service information. Within 72 months after November 7, 2012 (the effective date of AD 2012-19-11), install a redundant cabin altitude pressure switch, replace the aural warning module (AWM) with a new or reworked AWM, and change certain wire bundles or connect certain capped and stowed wires, as applicable, in accordance with the Accomplishment Instructions of the applicable service information in paragraphs (g)(1) and (g)(2) of this AD; except as provided by paragraph (k)(1) of this AD.

(1) Boeing Special Attention Service Bulletin 737-21-1164, Revision 1, dated May 17, 2012; or Boeing Special Attention Service Bulletin 737-21-1164, Revision 2, dated August 23, 2013 (for Model 737-100, -200, -200C, -300, -400, and -500 series airplanes). As of the effective date of this AD, use Boeing Special Attention Service Bulletin 737-21-1164, Revision 2, dated August 23, 2013, for the actions specified in paragraph (g) of this AD.

(2) Boeing Special Attention Service Bulletin 737-21-1165, Revision 1, dated July 16, 2010, as revised by Boeing Special Attention Service Bulletin 737-21-1165, Revision 2, dated April 30, 2012 (for Model 737-600, -700, -700C, -800, -900, and -900ER series airplanes).

(h) Retained Concurrent Actions

This paragraph restates the concurrent actions required by paragraph (h) of AD 2012-19-11, Amendment 39-17206 (77 FR 60296, October 3, 2012), with revised service information. For airplanes identified in Boeing Alert Service Bulletin 737-31A1325, dated January 11, 2010 (for Model 737-100, -200, -200C, -300, -400, and -500 series airplanes); and Boeing Alert Service Bulletin 737-31A1332, Revision 3, dated March 28, 2012 (for Model 737-600, -700, -700C, -800, -900, and -900ER series airplanes); except as provided by paragraph (i) of this AD: Before or concurrently with accomplishment of the actions specified in paragraph (g) of this AD, as applicable, modify the instrument panels, install light assemblies, modify the wire bundles, and install a new circuit breaker, in accordance with the Accomplishment Instructions of the applicable service information in paragraphs (h)(1) and (h)(2) of this AD; except as provided by paragraph (k)(2) of this AD.

(1) Boeing Alert Service Bulletin 737-31A1325, dated January 11, 2010, or Boeing Alert Service Bulletin 737-31A1325, Revision 1, dated July 5, 2012 (for Model 737-100, -200, -200C, -300, -400, and -500 series airplanes). As of the effective date of this AD, use Boeing Alert Service Bulletin 737-31A1325, Revision 1, dated July 5, 2012 (for Model 737-100, -200, -200C, -300, -400, and -500 series airplanes), for the actions specified in paragraph (h) of this AD.

(2) Boeing Alert Service Bulletin 737-31A1332, Revision 3, dated March 28, 2012; or Boeing Alert Service Bulletin 737-31A1332, Revision 4, dated October 31, 2013 (for Model 737-600, -700, -700C, -800, -900, and -900ER series airplanes). As of the effective date of this AD, use Boeing Alert Service Bulletin 737-31A1332, Revision 4, dated October 31, 2013 (for Model 737-600, -700, -700C, -800, -900, and -900ER series airplanes), for the actions specified in paragraph (h) of this AD.

(i) New Concurrent Requirement

For airplanes having variable numbers YA001 through YA008 inclusive, YA251, YA501 through YA508 inclusive, and YC321 through YC325 inclusive: Before or concurrently with accomplishment of the actions specified in paragraph (g) of this AD, or within 18 months after the effective date of this AD, whichever occurs later, modify the instrument panels, install light assemblies, modify the wire bundles, and install a new circuit breaker, in accordance with the Accomplishment Instructions of Boeing Alert Service Bulletin 737-31A1332, Revision 4, dated October 31, 2013.

(j) Credit for Previous Actions

This paragraph restates the credit for previous actions stated in paragraph (i) of AD 2012-19-11, Amendment 39-17206 (77 FR 60296, October 3, 2012), with correct paragraph reference and revised exempted airplanes.

(1) This paragraph provides credit for the actions required by paragraph (g) of this AD, if those actions were performed before November 7, 2012 (the effective date of AD 2012-19-11, Amendment 39-17206 (77 FR 60296, October 3, 2012)), using Boeing Special Attention Service Bulletin 737-21-1165, Revision 1, dated July 16, 2010.

(2) For airplanes identified in Boeing Alert Service Bulletin 737-31A1332, Revision 1, dated June 24, 2010; except airplanes having variable numbers YA001 through YA019 inclusive, YA201 through YA203 inclusive, YA231 through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (h) of this AD, if those actions were performed before the effective date of this AD using Boeing Alert Service Bulletin 737-31A1332, Revision 1, dated June 24, 2010.

(3) For airplanes identified in Boeing Alert Service Bulletin 737-31A1332, Revision 2, dated August 18, 2011; except airplanes identified in paragraph (j)(4) of this AD and airplanes having variable numbers YA001 through YA019 inclusive, YA201 through YA203 inclusive, YA231through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (h) of this AD, if those actions were performed before the effective date of this AD using Boeing Alert Service Bulletin 737-31A1332, Revision 2, dated August 18, 2011.

(4) For Group 21, Configuration 2 airplanes identified in Boeing Alert Service Bulletin 737-31A1332, Revision 3, dated March 28, 2012: This paragraph provides credit for the actions required by paragraph (h) of this AD, if those actions were performed before the effective date of this AD using Boeing Alert Service Bulletin 737-31A1332, Revision 2, dated August 18, 2011, and provided that the actions specified in Boeing Service Bulletin 737-21-1171, dated February 12, 2009, were accomplished prior to or concurrently with the actions specified in Boeing Alert Service Bulletin 737-31A1332, Revision 2, dated August 18, 2011.

(k) New Requirements to This AD: Exceptions to the Service Information

(1) Where Boeing Special Attention Service Bulletin 737-21-1164, Revision 2, dated August 23, 2013, specifies to contact Boeing for instructions: Before further flight, repair using a method approved in accordance with the procedures specified in paragraph (l) of this AD.

(2) Where Boeing Alert Service Bulletin 737-31A1325, Revision 1, dated July 5, 2012, specifies to contact Boeing for instructions: Before further flight, repair using a method approved in accordance with the procedures specified in paragraph (l) of this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved for AD 2012-19-11, Amendment 39-17206 (77 FR 60296, October 3, 2012), are approved as AMOCs for the corresponding provisions of this AD.

(m) Related Information

(1) For more information about this AD, contact Francis Smith, Aerospace Engineer, Cabin Safety and Environmental Systems Branch, ANM-150S, FAA, Seattle Aircraft Certification Office, 1601 Lind Avenue SW., Renton, WA 98057-3356; phone: 425-917-6596; fax: 425-917-6590; email: Francis.Smith@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, Washington. For information on the availability of this material at the FAA, call 425-227-1221.

Issued in Renton, Washington, on July 16, 2014.
John P. Piccola,
Acting Manager, Transport Airplane Directorate, Aircraft Certification Service.

[FR Doc. 2014-17781 Filed 7-28-14; 8:45 am]

BILLING CODE 4910-13-P